DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Miscellaneous Short Supply Activities.

Form Number(s): None.

OMB Control Number: 0694-0102.

Type of Review: Regular submission.

Estimated Total Annual Burden Hours: 201.

Estimated Number of Respondents: 1.

Estimated Time per Response: 201 hours.

Needs and Uses: This information collection is comprised of two rarely used short supply activities: “Registration of U.S. Agricultural Commodities for Exemption from Short Supply Limitations On Export”, and “Petitions for The Imposition of Monitoring or Controls On Recyclable Metallic materials; Public Hearings.” These activities are statutory in nature and, therefore, must remain a part of BIS's information collection budget authorization.

Affected Public: Business or other for-profit organizations.

Frequency: On Occasion.

Respondent's Obligation: Voluntary.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
Departmental Lead PRA Officer, Office of the Chief Information Officer.

[FR Doc. 2018-07358 Filed 4-9-18; 8:45 am]

BILLING CODE 3510-33-P